DEPARTMENT OF THE INTERIOR

Bureau of Land Management

[WY-040-1430-EU; WYW-148587]

Realty Action; Direct Sale of Public Lands; Wyoming

AGENCY: Bureau of Land Management, Interior.

ACTION: Notice of realty action; direct sale of public lands in Sweetwater County.

SUMMARY: The Bureau of Land Management has determined that the lands described below are suitable for public sale under Section 203 of the Federal Land Policy and Management Act of 1976, 43 U.S.C. 1713:

Sixth Principal Meridian, Wyoming

T. 21 N., R. 101 W.,

Section 24, NE¼NE¼SW¼, E½NW¼NE¼SW¼, E½SW¼NE¼SW¼, SE¼NE¼SW¼.

Section 26, S½NE¼, SE¼NW¼, E½SW¼, SE¼.

Section 36, W½NE¼, NW¼, N½NE¼SW¼, E½SW¼NE¼SW¼, SE¼NE¼SW¼, NE¼NW¼SW¼, N½NW¼NW¼SW¼, SE¼NW¼NW¼SW¼, NW¼SE¼.

The lands described above contain 722.5 acres.

FOR FURTHER INFORMATION CONTACT: Jennifer Bates, Realty Specialist, Bureau of Land Management, Rock Springs Field Office, 280 Highway 191 North, Rock Springs, Wyoming 82901, 307-352-0344.

SUPPLEMENTARY INFORMATION: The Bureau of Land Management proposes to sell the surface estate of the above-described land to PacifiCorp, an adjacent landowner and current right-of-way holder, via direct sale, pursuant to Section 203 of the Federal Land Policy and Management Act of 1976, 43 U.S.C. 1713. PacifiCorp wishes to acquire the land to protect its existing equities in the land. The lands are currently developed to contain two flue-gas desulphurization ponds, a fresh water pond, and other associated facilities, which are related to operation of the Jim Bridger Power Plant and are authorized by rights-of-way held by PacifiCorp. These lands have been sufficiently changed in character by the improvements associated with the rights-of-way, that disposal of these lands to PacifiCorp through direct sale is deemed to be in the public interest.

The proposed sale would be made at fair market value which has been determined to be $722,500. The proposed sale is consistent with the Green River Resource Management Plan and would serve important public objectives which cannot be achieved prudently or feasibly elsewhere. The lands contain no other known public values. The planning document, environmental assessment, and approved appraisal report covering the proposed sale are available for review at the Bureau of Land Management, Rock Springs Field Office, Rock Springs, Wyoming.

Conveyance of the above public lands will be subject to:

1. Reservation of a right-of-way to the United States for ditches and canals pursuant to the Act of August 30, 1890, 43 U.S.C. 945.

2. Reservation of all minerals pursuant to section 209(a) of the Federal Land Policy and Management Act of 1976, 43 U.S.C. 1719.

3. All valid existing rights documented on the official public land records at the time of conveyance.

There will be a decrease of 722.5 Federal acres within the Rock Springs Grazing Allotment. The 72 AUMs associated with the 722.5 acre parcel will be canceled. The grazing lessee has waived the 2 year notification period and therefore, this proposed sale is in compliance with 43 CFR 4110.42(b).

The public lands described above shall be segregated from all forms of appropriation under the public land laws; including the mining laws, upon publication of this notice in the Federal Register. The segregative effect will end upon issuance of the patent or 270 days from the date of the publication, whichever comes first.

For a period of 45 days after issuance of this notice, interested parties may submit comments to the Field Manager, Rock Springs Field Office, Bureau of Land Management, 280 Highway 191 North, Rock Springs, Wyoming 82901. Any adverse comments will be evaluated by the State Director who may sustain, vacate, or modify this realty action. In the absence of any objections, this proposed realty action will become final.

Dated: December 4, 2003.
Michael R. Holbert,
Field Manager.

[FR Doc. 04-621 Filed 1-12-04; 8:45 am]

BILLING CODE 4310-22-P